DEPARTMENT OF STATE

[Public Notice: 12132]

30-Day Notice of Proposed Information Collection: Family Reunification Assistance for Afghan Parolees' Immediate Family Members Outside the United States

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to August 28, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, may be sent to: Family Reunification Project Manager, Office of the Coordinator for Afghan Relocation Efforts, Bureau of South and Central Asian Affairs, Department of State, Washington, DC, 20522-0603, who may be reached at CAREFamReunification@state.gov.

SUPPLEMENTARY INFORMATION:

• Title of Information Collection: Family Reunification Assistance for Afghan Parolee's Immediate Family Outside the United States.

• OMB Control Number: 1405-0251.

• Type of Request: Extension of a Currently Approved Collection.

• Originating Office: Bureau of South and Central Asian Affairs, SCA/CARE.

• Form Number: DS-4317.

• Respondents: Respondents are Afghan nationals who were paroled into the United States and remain a parolee or who were paroled into the United States and subsequently granted Temporary Protect Status (TPS).

• Estimated Number of Respondents: 20,000.

• Estimated Number of Responses: 5,000.

• Average Time per Response: 30 minutes.

• Total Estimated Burden Time: 2,500 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The U.S. Government has determined that Afghans paroled under Operation Allies Welcome (OAW), or those paroled and then subsequently granted Temporary Protected Status (TPS), could request U.S. Government-supported family reunification assistance for their spouses and unmarried children under 21 years of age. Use of the Form DS-4317 will enable the Department to build a current picture of how many Afghans may be eligible for relocation and to assist them in departing Afghanistan. This online form helps avoid unstructured requests for assistance, such as those that arrive via email messages, which may not include important information, such as family size and biodata, and which often require entry into other systems to facilitate responses. This form is integrated with other elements of the Department's evolving information technology platform, enhancing the efficient handling of individual cases.

Methodology

Information from applicants is collected through an electronic version of the Form DS-4317. Data from the application is stored in IRM's ServiceNow platform.

Kevin E. Bryant,
Deputy Director, Office of Directives Management, U.S. Department of State.

[FR Doc. 2023-16080 Filed 7-27-23; 8:45 am]

BILLING CODE 4710-31-P